DEPARTMENT OF ENERGY

Federal Energy Regulatory Commission

[Docket No. CP01-69-004]

Petal Gas Storage, L.L.C.; Notice of Amendment

June 3, 2002.

Take notice that on April 23, 2002, Petal Gas Storage, L.L.C. (Petal), Nine Greenway Plaza, Houston, Texas 77046, filed in Docket No. CP01-69-004, an application for authorization to amend its certificate of public convenience and necessity issued to Petal in the Commission's October 25, 2001 and February 14, 2002 Orders ¹, all as more fully set forth in the application which is on file with the Commission and open to public inspection. Copies of this filing are on file with the Commission and are available for public inspection. This filing may also be viewed on the Web at http://www.ferc.gov using the “RIMS” link, select “Docket #” and follow the instructions (call 202-208-2222 for assistance)

¹ See 97 FERC ¶ 61,097 (2001) and 98 FERC ¶ 61,152 (2002).

Petal requests that the Commission vacate that portion of the certificate authorizing Petal to construct 0.3 miles of new bi-directional 36-inch pipeline (the Transco Lateral) from a tie-in point on the Transcontinental Gas Pipe Line Corporation (Transco) system. Petal states that it submits this request in order to accommodate Transco's desire to build the Transco Lateral itself on Transco's Part 157 blanket certificate. Petal states that in attempting to reach an agreement with Transco and to strive to meet the proposed in-service date for its customers, the best way to proceed expeditiously would be to accommodate Transco's firmly expressed desire to own and operate the Transco Lateral. According to Petal, aside from some potential delay in the completion of all facilities originally contemplated under the certificate, the requested amendment will have no adverse effect on Petal's proposed service or on its customers. While it is Petal's understanding that Transco intends to construct the Transco Lateral using 30-inch diameter pipe rather than 36-inch diameter pipe, this will not change Petal's ability to meet its firm service obligations on Petal's pipeline. Further, Petal states that to the extent that Transco's construction of the Transco lateral affects Petal's projected costs for the Project, Petal will reflect those changes in its “statement of cost” filing as required under 18 CFR 157.20(c).

Any questions concerning this application may be directed to Jay V. Allen, Counsel, El Paso Corporation, Nine Greenway Plaza, Houston, Texas 77046, at (832) 676-5589 or fax (832) 676-2251.

There are two ways to become involved in the Commission's review of this project. First, any person wishing to obtain legal status by becoming a party to the proceedings for this project should, on or before June 13, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-14414 Filed 6-7-02; 8:45 am]

BILLING CODE 6717-01-P